DEPARTMENT OF THE INTERIOR

National Park Service

[NPS-SER-CALO-15249; PPSESEROC3, PPMPSAS1Y.YP0000]

Draft Environmental Impact Statement Off-Road Vehicle Management Plan for Cape Lookout National Seashore, North Carolina

AGENCY: National Park Service, Interior.

ACTION: Notice of Availability.

SUMMARY: Pursuant to Section 102 (2)(C) the National Environmental Policy Act of 1969, 42 U.S.C. 4332(2)(C), the National Park Service (NPS) announces the availability of the Draft Environmental Impact Statement (DEIS) for the Off-Road Vehicle Management Plan (Plan), Cape Lookout National Seashore (Seashore), North Carolina.

DATES: The NPS will accept comments on the DEIS/Plan from the public for a period of 60 days following publication by the Environmental Protection Agency (EPA) of the Notice of Availability of the Draft Environmental Impact Statement in the Federal Register. We will announce the dates, times and location for public meetings to solicit comments on the DEIS/Plan through the NPS Planning, Environment, and Public Comment (PEPC) Web site for the project at http://parkplanning.nps.gov/calo and media outlets.

ADDRESSES: Copies of the DEIS/Plan will be available for public review at http://parkplanning.nps.gov/calo. A limited number of hard copies will be available at Park Headquarters, 131 Charles St., Harkers Island, North Carolina 28531.

FOR FURTHER INFORMATION CONTACT: Superintendent, Cape Lookout National Seashore, 131 Charles St., Harkers Island, North Carolina 28531; phone 252-728-2250 extension 3014.

SUPPLEMENTARY INFORMATION: The DEIS/Plan evaluates whether to allow ORV use at the Seashore. If ORV use is permitted, the DEIS/Plan will address how to manage that use in compliance with the Seashore's enabling legislation, executive orders, NPS management policies, and other laws and regulations to ensure protection of the natural, cultural, and recreational values of the Seashore's dynamic coastal barrier island environment for present and future generations.

The DEIS/Plan evaluates the impacts of four alternatives for designation of off-road vehicle routes and resource management, as well as one alternative that would prohibit off-road vehicle use, and are described as follows:

Alternative A

• the no action alternative

• continues current levels of ORV use

• continues species management measures from the Seashore's Interim Species Management Plan/EA

Alternative B

• designates specific ORV routes and areas similar to alternative A

• establishes vehicle permits with no numerical limit

• continues species management measures from the Seashore's Interim Species Management Plan/EA

• establishes seasonal night driving restrictions

• phases out high-performance sport model and two stroke ATVs and UTVs

• creates an adaptive management strategy

Alternative C

• the NPS preferred alternative

• designates specific ORV routes and areas

• creates additional pedestrian only areas

• establishes a vehicle permit program that would maintain ORV use at historical levels

• phases out high-performance sport model and two stroke ATVs and UTVs with seasonal use restrictions

• continues species management measures from the Seashore's Interim Species Management Plan/EA

• establishes seasonal night driving restrictions

• creates an adaptive management strategy

Alternative D

• designates specific ORV routes and areas

• creates additional pedestrian only areas compared to alternative C

• establishes a vehicle permit program that would maintain ORV use at historical levels minus 8%

• phases out all ATVs while allowing non-sport UTVs with seasonal use restrictions

• continues species management measures from the Seashore's Interim Species Management Plan/EA while increasing some resource buffers

• establishes seasonal night driving restrictions

• creates an adaptive management strategy

Alternative E

• prohibits private, recreational ORV use

• continuation of species protection measures as appropriate

Executive Order 11644, issued in 1972 and amended by Executive Order 11989 in 1977, states that Federal agencies allowing ORV use must designate the specific areas and trails on public lands on which the use of ORVs may be permitted, and areas in which the use of ORVs may not be permitted. National Park Service policy requires that areas and trails that are designated for ORV use must be established based upon the protection of the resources of the public lands, promotion of the safety of all users of those lands, and minimization of conflicts among the various uses of those lands. 36 CFR 4.10 requires that “Routes and areas designated for off-road motor vehicle use shall be promulgated as special regulations.” In addition, such routes and areas may only be designated in national recreation areas, national seashores, national lakeshores and national preserves.

If you wish to comment electronically, you may submit your comments online at the PEPC Web site by visiting http://parkplanning.nps.gov/calo. The NPS encourages commenting electronically through PEPC. The deadline for submitting comments online is midnight, Eastern Time, on the last day of the public comment period, which will be 60 days after the EPA's Notice of Availability for this Plan/DEIS is published in the Federal Register. You may also submit written comments by mail to: Patrick M. Kenney, Superintendent, Cape Lookout National Seashore, 131 Charles St., Harkers Island, North Carolina 28531. Comments may also be hand-delivered to park headquarters. Comments will also be accepted during the three open house public meetings. Comments will not be accepted by fax, email, or in any other way than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

The responsible official for this DEIS is the Regional Director, NPS Southeast Region, 100 Alabama Street SW., 1924 Building, Atlanta, Georgia 30303.

Dated: April 30, 2014.
Sarah Craighead,
Acting Regional Director, Southeast Region.

[FR Doc. 2014-11893 Filed 5-21-14; 8:45 am]

BILLING CODE 4310-JD-P